FEDERAL COMMUNICATIONS COMMISSION

47 CFR Part 51

[CC Docket No. 96-98; DA 01-1648]

Update and Refresh Record on Rules Adopted in 1996 Local Competition Docket

AGENCY: Federal Communications Commission.

ACTION: Proposed rule.

SUMMARY: This document invites parties to update and refresh the record on issues pertaining to the rules the Commission adopted in the First Report and Order in CC Docket No. 96-98, Implementation of the Local Competition Provisions of the Telecommunications Act of 1996.

DATES: Comments are due August 24, 2001 and reply comments are due September 10, 2001.

FOR FURTHER INFORMATION CONTACT: Jonathan Reel, Attorney Advisor, Policy and Program Planning Division, Common Carrier Bureau, (202) 418-1580.

SUPPLEMENTARY INFORMATION: This is a summary of the Commission's document regarding CC Docket No. 96-98, released on July 11, 2001. The complete text of this document is available for inspection and copying during normal business hours in the FCC Reference Information Center, Courtyard Level, 445 12th Street, S.W., Washington, DC, and also may be purchased from the Commission's copy contractor, International Transcription Services (ITS, Inc.), CY—B400, 445 12th Street, S.W., Washington, DC. It is also available on the Commission's website at http://www.fcc.gov.

Synopsis

1. On August 8, 1996, the Commission released the Local Competition First Report and Order (61 FR 45476) as required by the Telecommunications Act of 1996. Many of the parties filed petitions for reconsideration of that Order and there has been significant litigation concerning many of the rules adopted in that Order. At this time, only certain rules concerning combination and pricing of unbundled network elements remain in dispute. Now that the issues in dispute have narrowed, the Commission will address petitions for reconsideration relating to rules that are not the subject of pending litigation. Since many of these petitions were filed several years ago, the passage of time and intervening developments may have rendered the record developed by those petitions stale. Moreover, some issues raised in petition for reconsideration may have become moot or irrelevant in light of intervening events.

2. For these reasons, the Commission requests that parties that filed petitions for reconsideration in 1996 addressing issues that are not subject to pending litigation now file a supplemental notice indicating which of such issues they still wish to be reconsidered. In addition, parties may refresh the record with any new information or arguments they believe to be relevant to deciding such issues. To the extent parties do not indicate an intent to pursue their respective petitions for reconsideration, the petitions will be deemed withdrawn and will be dismissed. The refreshed record will enable the Commission to undertake appropriate reconsideration of its local competition rules.

List of Subjects in 47 CFR Part 51

Communications common carriers, Interconnection.

Federal Communications Commission.
Michelle M. Carey,
Chief, Policy and Program Planning Division, Common Carrier Bureau.

[FR Doc. 01-18516 Filed 7-24-01; 8:45 am]

BILLING CODE 6712-01-P